DEPARTMENT OF COMMERCE

Bureau of Industry and Security

Action Affecting Export Privileges; Cirrus Electronics, Cirrus Electronics Pte. Ltd, Cirrus Electronics Marketing (P) Ltd., Parthasarathy Sudarshan, Mythili Gopal, Akn Prasad, and Sampath Sundar; Order Renewing Temporary Denial Order

In the Matter of:

Cirrus Electronics LLC, Washington, DC Department of Corrections, Correctional Treatment Facility, 1901 E Street, SE., Washington, DC 20003; and 22 Redglobe Court, Simpsonville, South Carolina;

Cirrus Electronics Pte., Ltd., Level 3 ECON Building, No. 2 Ang Mo Kio Street 64, Ang Mo Kio Industrial Park 3 Singapore;

Cirrus Electronics Marketing (P) Ltd., #303, Suraj Ganga Arcade, 332/7, 15th Cross 2nd Block, Jayanagar, Bangalore, India;

Parthasarathy Sudarshan, Washington, DC Department of Corrections, Correctional Treatment Facility, 1901 E Street, SE., Washington, DC 20003;

Mythili Gopal, 22 Redglobe Court, Simpsonville, South Carolina;

Akn Prasad, #303, Suraj Ganga Arcade, 332/7, 15th Cross 2nd Block, Jayanagar, Bangalore, India;

Sampath Sundar, Level 3 ECON Building, No. 2 Ang Mo Kio Street 64, Ang Mo Kio Industrial Park 3 Singapore, Respondents.

Pursuant to Section 766.24 of the Export Administration Regulations (“EAR”),¹ the Bureau of Industry and Security (“BIS”), U.S. Department of Commerce, through its Office of Export Enforcement (“OEE”), has requested that I renew for 180 days an Order temporarily denying export privileges under the EAR (“TDO”) of:

¹ The EAR are currently codified at 15 CFR parts 730-774 (2007). The EAR are issued under the Export Administration Act of 1979, as amended (50 U.S.C. app. 2401-2420 (2000)) (“EAA”). Since August 21, 2001, the Act has been in lapse and the President, through Executive Order 13222 of August 17, 2001 (3 CFR, 2001 Comp. 783 (2002)), which has been extended by successive presidential notices, the most recent being that of August 15, 2007 (72 FR 46137 (August 16, 2007)), has continued the Regulations in effect under the International Emergency Economic Powers Act (50 U.S.C. § § 1701—1706 (2000)) (“IEEPA”).

(1) Cirrus Electronics, doing business as Cirrus Electronics LLC, Washington, DC Department of Corrections Correctional Treatment Facility, 1901 E Street, SE., Washington, DC 20003 and 22 Redglobe Court, Simpsonsville, South Carolina (“Cirrus U.S.A.”)

(2) Cirrus Electronics Pte Ltd., Level 3, ECON Building, No. 2, Ang Mo Kio Street 64, Ang Mo Kio Industrial Park 3, Singapore (“Cirrus Singapore”)

(3) Cirrus Electronics Marketing (P) Ltd., #303 Suraj Ganga Arcade, 332/7, 15th Cross 2nd Block, Jayanagar, Bangalore, India (“Cirrus India”)

(4) Parthasarathy Sudarshan, Managing Director, CEO, President, and Group Head of Cirrus Washington, DC Department of Corrections Correctional Treatment Facility, 1901 E Street, SE., Washington, DC 20003 and 22 Redglobe Court, Simpsonsville, South Carolina

(5) Mythili Gopal, International Manager of Cirrus, 22 Redglobe Court, Simpsonsville, South Carolina

(6) Akn Prasad, CEO of India Operations of Cirrus, #303 Suraj Ganga Arcade, 332/7, 15th Cross 2nd Block, Jayanagar, Bangalore, India

(7) Sampath Sundar, Director of Operations of Cirrus, Cirrus Electronics Pte Ltd., Level 3, ECON Building, No. 2, Ang Mo Kio Street 64, Ang Mo Kio Industrial Park 3, Singapore

(collectively referred to as the “Respondents”)

On June 1, 2007, I found that evidence presented by BIS demonstrated that the Respondents knowingly violated the EAR on at least five occasions between on or about September 30, 2005 and on or about April 17, 2006 by exporting items subject to the EAR from the United States to the Vikram Sarabhai Space Centre (“VSSC”) and Bharat Dynamics Ltd. (“BDL”) in India without the licenses required by Section 744.1 of the EAR. VSSC and BDL are organizations set forth on the Entity List set forth in Supplement No. 4 to Part 744 of the EAR. In each instance, the items were shipped from the United States to Singapore for subsequent shipment to VSSC and BDL. The Respondents were aware of the Entity List licensing requirements and on at least one occasion provided an end-user statement to a U.S. vendor that falsely represented the end-user in order to conceal the intended actual end user, VSSC, of the vendor's items. I further found that such violations had been significant, deliberate and covert, and were likely to occur again, especially given the nature of the transactions. As such, a TDO was needed to give notice to persons and companies in the United States and abroad that they should cease dealing with the Respondents in export transactions involving items subject to the EAR. Issuance of the TDO, rendered effective as of June 12, 2007, the date of publication in the Federal Register, was consistent with the public interest to preclude future violations of the EAR.

OEE has presented additional evidence indicating that Cirrus Singapore remains in business despite issuance of the TDO. I now find, based on the continued circumstances that led to the initial issuance of the TDO on June 1, 2007 and the additional evidence supplied by OEE, that the renewal of this TDO for a period of 180 days is necessary and in the public interest, to prevent an imminent violation of the EAR. All parties to this TDO have been given notice of the request for renewal.

It is therefore ordered:

First, that the Respondents, Cirrus Electronics LLC, Washington, DC Department of Corrections Correctional Treatment Facility, 1901 E Street, SE., Washington, DC 20003, and 22 Redglobe Court, Simpsonsville, South Carolina, 29681-3615, and Cirrus Electronics PTE LTD., Level 3, ECON Building, No. 2, Ang Mo Kio Street 64, Ang Mo Kio Industrial Park 3, Singapore, and Cirrus Electronics Marketing (P) LTD., #303 Suraj Ganga Arcade, 332/7, 15th Cross 2nd Block, Jayanagar, Bangalore, India, and Parthasarsathy Sudarshan, Managing Director, CEO, President, and Group Head of Cirrus, Washington, D.C. Department of Corrections Correctional Treatment Facility, 1901 E Street, SE., Washington, DC 20003, and 22 Redglobe Court, Simpsonsville, South Carolina, 29681-3615, and Mythili Gopal, International Manager of Cirrus, 22 Redglobe Court, Simpsonsville, South Carolina, 29681-3615, and Akn Prasad, CEO of India Operations of Cirrus, #303 Suraj Ganga Arcade, 332/7, 15th Cross 2nd Block, Jayanagar, Bangalore, India, and Sampath Sundar, Director of Operations of Cirrus, Cirrus Electronics Pte Ltd., Level 3, ECON Building, No. 2, Ang Mo Kio Street 64, Ang Mo Kio Industrial Park 3, Singapore (collectively the “Denied Persons”) may not, directly or indirectly, participate in any way in any transaction involving any commodity, software or technology (hereinafter collectively referred to as “item”) exported or to be exported from the United States that is subject to the Export Administration Regulations (“EAR”), or in any other activity subject to the EAR including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefitting in any way from any transaction involving any item exported or to be exported from the United States that is subject to the EAR, or in any other activity subject to the EAR.

Second, that no person may, directly or indirectly, do any of the following:

A. Export or reexport to or on behalf of the Denied Person any item subject to the EAR;

B. Take any action that facilitates the acquisition or attempted acquisition by the Denied Person of the ownership, possession, or control of any item subject to the EAR that has been or will be exported from the United States, including financing or other support activities related to a transaction whereby the Denied Person acquires or attempts to acquire such ownership, possession or control;

C. Take any action to acquire from or to facilitate the acquisition or attempted acquisition from the Denied Person of any item subject to the EAR that has been exported from the United States;

D. Obtain from the Denied Person in the United States any item subject to the EAR with knowledge or reason to know that the item will be, or is intended to be, exported from the United States; or

E. Engage in any transaction to service any item subject to the EAR that has been or will be exported from the United States and which is owned, possessed or controlled by the Denied Person, or service any item, of whatever origin, that is owned, possessed or controlled by the Denied Person if such service involves the use of any item subject to the EAR that has been or will be exported from the United States. For purposes of this paragraph, servicing means installation, maintenance, repair, modification or testing.

Third, that after notice and opportunity for comment as provided in section 766.23 of the EAR, any other person, firm, corporation, or business organization related to any of the Respondents by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of Section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request not later than 20 days before the expiration date. The Respondents may oppose a request to renew this Order by filing a written submission with the Assistant Secretary for Export Enforcement, which must be received not later than seven days before the expiration date of the Order.

A copy of this Order shall be served on the Respondents and shall be published in the Federal Register.

This Order is effective as of the date that it is signed and shall remain in effect for 180 days.

Entered this 5th day of December, 2007.
Darryl W. Jackson,
Assistant Secretary of Commerce for Export Enforcement.

[FR Doc. E7-24237 Filed 12-13-07; 8:45 am]

BILLING CODE 3510-DT-P